DEPARTMENT OF ENERGY

10 CFR Part 431

[Docket No. EERE-2010-BT-STD-0037]

RIN 1904-AC39

Energy Efficiency Program for Consumer Products: Public Meeting and Availability of the Framework Document for Automatic Commercial Ice-Makers

AGENCY: Office of Energy Efficiency and Renewable Energy, Department of Energy.

ACTION: Notice of public meeting and availability of the framework document.

SUMMARY: The U.S. Department of Energy (DOE) is initiating a rulemaking and data collection process to consider amended energy conservation standards for automatic commercial ice-makers. DOE will hold a public meeting to discuss and receive comments on its planned analytical approach and issues it will address in this rulemaking proceeding. DOE welcomes written comments and relevant data from the public on any subject within the scope of this rulemaking. To inform interested parties and to facilitate this process, DOE has prepared a framework document that details the analytical approach and identifies several issues on which DOE is particularly interested in receiving comments.

DATES: DOE will hold a public meeting on Thursday, December 16, 2010 from 9 a.m. to 4 p.m. in Washington, DC. Additionally, DOE plans to conduct the public meeting via webinar. Registration information, participant instructions, and information about the capabilities available to webinar participants will be published on the following Web site https://www1.gotomeeting.com/register/782074929. Participants are responsible for ensuring that their systems are compatible with the webinar software.

DOE must receive requests to speak at the public meeting before 4 p.m., Thursday, December 2, 2010. DOE must receive an electronic copy of the statement with the name and, if appropriate, the organization of the presenter to be given at the public meeting before 4 p.m., Thursday, December 9, 2010. DOE will accept written comments, data, and information regarding the framework document before and after the public meeting, but no later than January 18, 2011. Comments submitted after the above date may not be considered. DOE encourages all written comments, data, and information to be submitted in electronic form.

ADDRESSES: The public meeting will be held at the U.S. Department of Energy, Forrestal Building, Room 8E-089, 1000 Independence Avenue, SW., Washington, DC 20585-0121. Please note that foreign nationals planning to participate in the public meeting are subject to advance security screening procedures. If a foreign national wishes to participate in the public meeting, please inform DOE of this fact as soon a possible by contacting Ms. Brenda Edwards at (202) 586-2945 so that the necessary procedures can be completed.

Interested parties are encouraged to submit comments electronically by the following methods:

• Federal eRulemaking Portal: http://www.regulations.gov. Follow the instructions for submitting comments.

• E-mail to the following address: ACIM-2010-STD-0037@ee.doe.gov. Include docket number EERE-2010-BT-STD-0037 and/or RIN 1904-AC39 in the subject line of the message. All comments should clearly identify the name, address, and, if appropriate, organization of the commenter.

Alternatively, interested parties may submit comments by the following methods:

• Mail: Ms. Brenda Edwards, U.S. Department of Energy, Building Technologies Program, Mailstop EE-2J, Framework Document for Automatic Commercial Ice-Making Equipment, Docket No. EERE-2010-BT-STD-0037 and/or RIN 1904-AC39, 1000 Independence Avenue, SW., Washington, DC 20585-0121. Please submit one signed paper original.

• Hand Delivery/Courier: Ms. Brenda Edwards, U.S. Department of Energy, Building Technologies Program, Sixth Floor, 950 L'Enfant Plaza, SW., Washington, DC 20024. Please submit one signed paper original.

Docket: For access to the docket to read background documents, a copy of the transcript of the public meeting, or comments received, go to http://www.regulations.gov. Alternatively, interested parties may go to the U.S. Department of Energy, Resource Room of the Building Technologies Program, Sixth Floor, 950 L'Enfant Plaza, SW., Washington, DC 20024, (202) 586-2945, between 9 a.m. and 4 p.m., Monday through Friday, except Federal holidays. Please call Ms. Brenda Edwards first at the above telephone number for additional information regarding visiting the Resource Room.

A copy of the framework document and a link to the docket web page are available at: http://www1.eere.energy.gov/buildings/appliance_standards/commercial/automatic_ice_making_equipment.html.

FOR FURTHER INFORMATION CONTACT: Mr. Charles Llenza, U.S. Department of Energy, Office of Energy Efficiency and Renewable Energy, Building Technologies, EE-2J, 1000 Independence Avenue, SW., Washington, DC 20585-0121. Telephone: (202) 586-2192. E-mail: Charles_Llenza@ee.doe.gov.

Mr. Ari Altman, U.S. Department of Energy, Office of the General Counsel, GC-71, 1000 Independence Avenue, SW., Washington, DC 20585-0121. Telephone: (202) 287-6307. E-mail: Ari.Altman@hq.doe.gov.

For information on how to submit or review public comments and on how to participate in the public meeting, contact Ms. Brenda Edwards, U.S. Department of Energy, Office of Energy Efficiency and Renewable Energy, Building Technologies Program, EE-2J, 1000 Independence Avenue, SW., Washington, DC 20585-0121. Telephone (202) 586-2945. E-mail: Brenda.Edwards@ee.doe.gov.

SUPPLEMENTARY INFORMATION: Title III, Part C of the Energy Policy and Conservation Act of 1975 (EPCA), Public Law 94-163 (42 U.S.C. 6311-6317, as codified), added by Public Law 95-619, Title IV, § 441(a), established the Energy Conservation Program for Certain Industrial Equipment, a program covering certain industrial equipment, which includes the automatic commercial ice-makers that are the focus of this notice.¹

¹ For editorial reasons, upon codification in the U.S. Code, Part C was re-designated Part A-1.

Section 136(d) of the Energy Policy Act of 2005 (EPACT 2005), Public Law 109-58, amended EPCA to prescribe energy conservation standards for some automatic commercial ice-makers. (42 U.S.C. 6313(d)(1)) A summary of these standards can be found in section 1.3 of the framework document. The EPACT 2005 amendments (42 U.S.C. 6313(d)(2)) also authorize DOE to issue standards for types of automatic commercial ice makers that are not covered by 42 U.S.C. 6313(d)(1). In addition, not later than January 1, 2015, with respect to the standards at 42 U.S.C. 6313(d)(1), and not later than 5 years after the effective date of any standards issued by DOE under 42 U.S.C. 6313(d)(2), DOE is to issue a final rule to determine whether amending the applicable standards is technologically feasible and economically justified. (42 U.S.C. 6313(d)(3)(A)) Any final rule issued by the Secretary establishing a new or amended standard shall provide that the new or amended standard applies to products manufactured on or after the date that is 3 years after the standard is published, unless the Secretary determines by rule that 3 years is inadequate, in which case the standard shall apply to products manufactured on or after a date no later than 5 years after the date on which the final rule is published. Any new or amended standard issued by the Secretary under 42 U.S.C. 6313(d) shall be set at the maximum level that is technically feasible and economically justified. This framework document is being published as a first step toward meeting these statutory requirements.

The Energy Independence and Security Act of 2007 (section 310 of EISA 2007; Pub. L. 110-140) requires quantification of standby and off mode energy consumption in energy conservation standards for consumer products. (42 U.S.C. 6295) The section which establishes energy conservation standards for commercial and industrial equipment, section 342, was not similarly amended to include requirements for addressing standby and off mode equipment. Therefore, standby and off modes will not be considered for automatic commercial ice-makers.

To initiate this rulemaking process, DOE has prepared a framework document to explain the relevant issues, analyses, and processes it anticipates using to determine whether to amend the standards, as well as for the development of any amended standards. The focus of the public meeting will be to discuss the analyses presented and issues identified in the framework document. At the public meeting, DOE will make presentations, invite discussion on the rulemaking process as it applies to automatic commercial ice-making equipment, and solicit comments, data, and information from participants and other interested parties.

DOE is planning to conduct in-depth technical analyses in the following areas: (1) Engineering; (2) energy-use characterization; (3) product price; (4) life-cycle cost and payback period; (5) national impact analysis; (6) manufacturer impact analysis; (7) utility impact analysis; (8) employment impact analysis; (9) environmental assessment; and (10) regulatory impact analysis. DOE will also conduct several other analyses that support those previously listed, including the market and technology assessment, the screening analysis (which contributes to the engineering analysis), and the shipments analysis (which contributes to the national impact analysis).

DOE encourages those who wish to participate in the public meeting to obtain the framework document and to be prepared to discuss its contents. A copy of the framework document is available at: http://www1.eere.energy.gov/buildings/appliance_standards/commercial/automatic_ice_making_equipment.html.

Public meeting participants need not limit their comments to the issues identified in the framework document. DOE is also interested in comments on other relevant issues that participants believe would affect energy conservation standards for this equipment, applicable test procedures, or the preliminary determination of the scope of coverage. DOE invites all interested parties, whether or not they participate in the public meeting, to submit in writing by January 18, 2011, comments and information on matters addressed in the framework document and on other matters relevant to DOE's consideration of amended standards for automatic commercial ice-makers.

The public meeting will be conducted in an informal, facilitated, conference style. There shall be no discussion of proprietary information, costs or prices, market shares, or other commercial matters regulated by U.S. antitrust laws. A court reporter will record the proceedings of the public meeting, after which a transcript will be available for purchase from the court reporter and placed on the DOE Web site at: http://www1.eere.energy.gov/buildings/appliance_standards/commercial/automatic_ice_making_equipment.html.

After the public meeting and the close of the comment period on the framework document, DOE will begin conducting the analyses as discussed in the framework document and at the public meeting, and reviewing the public comments.

DOE considers public participation to be a very important part of the process for determining whether to amend energy conservation standards, as well as for setting those amended standards. DOE actively encourages the participation and interaction of the public during the comment period in each stage of the rulemaking process. Beginning with the framework document, and during each subsequent public meeting and comment period, interactions with and among members of the public provide a balanced discussion of the issues to assist DOE in the standards rulemaking process. Accordingly, anyone who wishes to participate in the public meeting, receive meeting materials, or be added to the DOE mailing list to receive future notices and information about this rulemaking should contact Ms. Brenda Edwards at (202) 586-2945, or via e-mail at Brenda.Edwards@ee.doe.gov.

Issued in Washington, DC, on November 4, 2010.
Cathy Zoi,
Assistant Secretary, Energy Efficiency and Renewable Energy.

[FR Doc. 2010-29208 Filed 11-18-10; 8:45 am]

BILLING CODE 6450-01-P